INTER-AMERICAN FOUNDATION

Submission for OMB Review; Comments Request

AGENCY: Inter-American Foundation.

ACTION: Notice of information collection; request for comment.

SUMMARY: Under the provisions of the Paperwork Reduction Act, agencies are required to publish a Notice in the Federal Register notifying the public that the agency is creating a new information collection for OMB review and approval and requests public review and comment on the submission. The agencies received one comment in response to the sixty (60) day notice and have not made changes to the information collection in response to that comment. Comments are being solicited on the need for the information; the accuracy of the burden estimate; the quality, practical utility, and clarity of the information to be collected; and ways to minimize reporting the burden, including automated collected techniques and uses of other forms of technology.

DATES: Comments must be received by April 26, 2024.

ADDRESSES: Comments and requests for copies of the subject information collection may be sent by any of the following methods:

• Mail: Nicole Stinson, Associate General Counsel, Inter-American Foundation, 1331 Pennsylvania Ave. NW, Suite 1200 North, Washington, DC 20004.

• Email: nstinson@iaf.gov.

Instructions: All submissions received must include the agency name and agency form name or OMB control number for this information collection. Electronic submissions must include the agency form name in the subject line to ensure proper routing. Please note that all written comments received in response to this notice will be considered public records.

FOR FURTHER INFORMATION CONTACT: Associate General Counsel: Nicole Stinson, (202) 683-7117.

SUPPLEMENTARY INFORMATION: The agency received one comment in response to the sixty (60) day notice published in Federal Register volume 88 page 40844 on June 22, 2023. Upon publication of this notice, IAF will submit to OMB a request for approval of the following information collection.

Summary Form Under Review

Title of Collection: Grantee Social Inclusion Consultation.

Type of Review: New information collection.

OMB Control Number: Not assigned, new information collection.

Type of Respondent/Affected Public: IAF Grantees and non-grantees (women, youth, people with disabilities, Indigenous people, LGBTQ+ people and Afro-descendants).

Frequency: This is a one time data collection effort.

Abstract: Currently, the IAF is soliciting comments concerning the information collection to carry out an equity gap analysis with grantees and underserved populations in Latin America and Caribbean countries where the IAF currently has grant programs. The quantitative and qualitative data collection, which is a priority identified in the IAF's Equity Action Plan, in compliance with Executive Order 13985, would serve to better understand the barriers those groups face to (a) accessing IAF programming and (b) achieving their development objectives. Findings will help the IAF adjust its practices to better support marginalized groups and the grantees who work with them, and to identify networks and platforms through which we can expand our outreach across marginalized populations.

Dated: March 21, 2024.
Natalia Mandrus,
Associate General Counsel, Office of the General Counsel.

[FR Doc. 2024-06432 Filed 3-26-24; 8:45 am]

BILLING CODE 7025-01-P